ENVIRONMENTAL PROTECTION AGENCY

[EPA-HQ-OAR-2022-0017; FRL-10540-01-OMS]

Information Collection Request Submitted to OMB for Review and Approval; Comment Request; NESHAP for Petroleum Refineries: Catalytic Cracking Units, Catalytic Reforming Units, and Sulfur Recovery Units (Renewal)

AGENCY: Environmental Protection Agency (EPA).

ACTION: Notice.

SUMMARY: The Environmental Protection Agency (EPA) has submitted an information collection request (ICR), NESHAP for Petroleum Refineries: Catalytic Cracking Units, Catalytic Reforming Units, and Sulfur Recovery Units (EPA ICR Number 1844.12, OMB Control Number 2060-0554), to the Office of Management and Budget (OMB) for review and approval in accordance with the Paperwork Reduction Act. This is a proposed extension of the ICR, which is currently approved through January 31, 2023. Public comments were previously requested, via the Federal Register, on July 22, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 26, 2023.

ADDRESSES: Submit your comments, referencing Docket ID Number EPA-HQ-OAR-2022-0017, to: (1) EPA online using https://www.regulations.gov/ (our preferred method), or by email to docket@epa.gov, or by mail to: EPA Docket Center, Environmental Protection Agency, Mail Code 28221T, 1200 Pennsylvania Ave. NW, Washington, DC 20460; and (2) OMB's Office of Information and Regulatory Affairs using the interface at: https://www.reginfo.gov/public/do/PRAMain. Find this particular information collection by selecting “Currently under Review—Open for Public Comments” or by using the search function.

The EPA's policy is that all comments received will be included in the public docket without change, including any personal information provided, unless the comment includes profanity, threats, information claimed to be Confidential Business Information (CBI), or other information whose disclosure is restricted by statute.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Petroleum Refineries: Catalytic Cracking Units, Catalytic Reforming Units, and Sulfur Recovery Units (40 CFR part 63, subpart UUU) apply to three types of affected units at either new and existing major source petroleum refineries: fluid catalytic cracking units (FCCU) for catalyst regeneration; catalytic reforming units (CRU); and sulfur recovery units (SRU). The rule also includes requirements for by-pass lines associated with the three affected units. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the NESHAP.

Form Numbers: None.

Respondents/affected entities: Owners and operators of petroleum refineries that operate catalytic cracking units; catalytic reforming units; and sulfur recovery units.

Respondent's obligation to respond: Mandatory (40 CFR part 63, subpart UUU).

Estimated number of respondents: 130 (total).

Frequency of response: Semiannually.

Total estimated burden: 16,100 hours (per year). Burden is defined at 5 CFR 1320.3(b).

Total estimated cost: $10,000,000 (per year), which includes $8,020,000 in annualized capital/startup and/or operation & maintenance costs.

Changes in the estimates: The decrease in burden from the most-recently approved ICR is due to an adjustment. The adjustment decrease in burden is due to a decrease in the number of sources. Petroleum refinery capacities have been declining since 2020 and this ICR reflects updated respondent counts based on data collected by the U.S. Energy Information Administration. In addition, the burden for one-time activities following implementation of the 2015 final rule in the currently approved ICR were removed. This ICR reflects the on-going burden and costs for the existing facilities. Due to a decrease in the number of respondents, there has been a decrease in the capital/startup and/or operation and maintenance (O&M) costs.

Courtney Kerwin,
Director, Regulatory Support Division.

[FR Doc. 2022-28074 Filed 12-23-22; 8:45 am]

BILLING CODE 6560-50-P